NUCLEAR REGULATORY COMMISSION

[NRC-2016-0220]

Report on Changes to Low-Level Waste Burial Charges

AGENCY: Nuclear Regulatory Commission.

ACTION: NUREG; issuance.

SUMMARY: The U.S. Nuclear Regulatory Commission (NRC) is issuing NUREG-1307, Revision 16, “Report on Waste Burial Charges: Changes in Decommissioning Waste Disposal Costs at Low-Level Waste Burial Facilities.” This report, which is revised periodically, explains the formula acceptable to the NRC for determining the minimum decommissioning fund requirements for nuclear power reactors, as required by the NRC's regulations. Specifically, this report provides adjustment factors, and updates to these values, for the labor, energy, and waste components of the minimum decommissioning formula.

DATES: NUREG-1307, Revision 16, is available March 14, 2017.

ADDRESSES: Please refer to Docket ID NRC-2016-0220 when contacting the NRC about the availability of information regarding this document. You may obtain publicly-available information related to this document using any of the following methods:

• Federal Rulemaking Web site: Go to http://www.regulations.gov and search for Docket ID NRC-2016-0220. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. NUREG-1307, Revision 16, is available in ADAMS under Accession No. ML17060A362.

• NRC's PDR: You may examine and purchase copies of public documents at the NRC's PDR, Room O1-F21, One White Flint North, 11555 Rockville Pike, Rockville, Maryland 20852.

FOR FURTHER INFORMATION CONTACT: Emil Tabakov, Office of Nuclear Reactor Regulation, U.S. Nuclear Regulatory Commission, Washington, DC 20555-0001; telephone: 301-415-6814; email: Emil.Tabakov@nrc.gov.

SUPPLEMENTARY INFORMATION: The NRC is issuing NUREG-1307, Revision 16, “Report on Waste Burial Charges: Changes in Decommissioning Waste Disposal Costs at Low-Level Waste Burial Facilities.” This report, which is revised periodically, explains the formula acceptable to the NRC for determining the minimum decommissioning fund requirements for nuclear power reactors, as required by section 50.75 of title 10 of the Code of Federal Regulations. NUREG-1307, Revision 16, modifies Revision 15 to this report that was issued in January 2013 (ADAMS Accession No. ML13023A030), and incorporates updates to the adjustment factors for the labor, energy, and waste components of the NRC minimum decommissioning formula. This revision also incorporates changes resulting from newly available low-level waste (LLW) disposal capacity at the Andrews County, Texas, facility established in 2012, and changes made to waste disposal costs resulting from a contractor reassessment of the assumptions for LLW classification. As a result of these changes, the minimum decommissioning formula amounts calculated by licensees, based on revised LLW burial factors presented in this report, will likely reflect (on average) lower minimum decommissioning fund requirements than those previously reported by licensees in 2015.

The NRC published a notice in the Federal Register on November 21, 2016 (81 FR 83287) requesting public comment on draft NUREG-1307, Revision 16, Report on Changes to Low-Level Waste Burial Charges. The NRC received four comments. The responses and comments are presented in a comment resolution matrix available in ADAMS under Accession No. ML17052A677. The NRC took these comments into consideration as staff completed NUREG-1307, Revision 16.

Dated at Rockville, Maryland, this 28th day of February 2017.
For the Nuclear Regulatory Commission.
Anthony R. Bowers,
Chief, Financial Analysis and International Projects Branch, Division of Inspection and Regional Support, Office of Nuclear Reactor Regulation.

[FR Doc. 2017-04991 Filed 3-13-17; 8:45 am]

BILLING CODE 7590-01-P